Title 3—

The President

Memorandum of December 2, 2015

Delegation of Reporting Functions Specified in Section 941 of the Fiscal Year 2014 National Defense Authorization Act

Memorandum for the Secretary of Defense [and] the Secretary of State

By the authority vested in me as President by the Constitution and the laws of the United States of America, including section 301 of title 3, United States Code, I delegate the reporting functions conferred upon the President by section 941 of the Fiscal Year 2014 National Defense Authorization Act (Public Law 113-66) to the Secretary of Defense. In carrying out the functions under this delegation, the Secretary of Defense shall consult with the Secretary of State and, as appropriate, other departments and agencies.

The Secretary of Defense is authorized and directed to publish this memorandum in the Federal Register.

THE WHITE HOUSE,

Washington, December 2, 2015

[FR Doc. 2015-30964

Filed 12-4-15; 11:15 am]

Billing code 5000-04-P